FEDERAL COMMUNICATIONS COMMISSION

47 CFR Part 73

[DA 04-2678; MB Docket No. 04-328, RM-11046; MB Docket No. 04-329, RM-11050; MB Docket No. 04-330, RM-11051; MB Docket No. 04-331, RM-11053; MB Docket No. 04-332, RM-11054; MB Docket No. 04-333, RM-11055; MB Docket No. 04-334, RM-11056; MB Docket No. 04-335, RM-11057; MB Docket No. 04-336, RM-11058; MB Docket No. 04-337, RM-11059]

Radio Broadcasting Services; Americus, GA; Cambria, CA; Carbon, TX; Coachella, CA; Dulac, LA; Fallon Station, NV; King City, CA; Northport, AL; and Washington, KS

AGENCY: Federal Communications Commission.

ACTION: Proposed rule.

SUMMARY: This document proposes ten new FM broadcast allotments in Americus, Georgia; Dulac, Louisiana; Palacios, Texas; Washington, Kansas; King City, California; Fallon Station, Nevada; Coachella, California; Cambria, California; Carbon, Texas; and Northport, Alabama. The Audio Division, Media Bureau, requests comment on a petition filed by SSR Communications, Inc., proposing the allotment of Channel 295A at Americus, Georgia, as the community's sixth local aural transmission service. Channel 295A can be allotted to Americus in compliance with the Commission's minimum distance separation requirements with a site restriction of 2.4 kilometers (1.5 miles) northwest of the central city coordinates for Americus. The reference coordinates for Channel 295A at Americus are 32-04-51 North Latitude and 84-15-20 West Longitude. See SUPPLEMENTARY INFORMATION, infra.

DATES: Comments must be filed on or before October 18, 2004, and reply comments on or before November 2, 2004.

ADDRESSES: Federal Communications Commission, 445 Twelfth Street, SW., Washington, DC 20554. In addition to filing comments with the FCC, interested parties should serve the petitioner, his counsel, or consultant, as follows: SSR Communications, Inc., 5270 West Jones Bridge Road, Norcross, Georgia 30092-1628; Charles Crawford, 4553 Bordeaux Avenue, Dallas, Texas 75205; Andrew Shafer, 3951 Regent Avenue, Cincinnati, Ohio 45212; Daniel R. Feely, 682 Palisade Street, Pasadena, California; Linda A. Davidson, 2134 Oak Street, Unit C, Santa Monica, California 90405; Dana J. Puopolo, 2134 Oak Street, Unit C, Santa Monica, California 90405; and TTI, Inc., P.O. Box 70937, Tuscaloosa, Alabama 35407.

FOR FURTHER INFORMATION CONTACT: R. Barthen Gorman, Media Bureau, (202) 418-2180.

SUPPLEMENTARY INFORMATION: This is a synopsis of the Commission's Notice of Proposed Rule Making, MB Docket Nos. 04-328, 04-329, 04-330, 04-331, 04-332, 04-333, 04-334, 04-335, 04-336 and 04-337, adopted August 25, 2004 and released August 27, 2004. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com.

The Audio Division requests comments on a petition filed by SSR Communications, Inc., proposing the allotment of Channel 242A at Dulac, Louisiana, as the community's first local aural transmission service. Channel 242A can be allotted to Dulac in compliance with the Commission's minimum distance separation requirements with a site restriction of 6.0 kilometers (3.7 miles) southwest of Dulac. The reference coordinates for Channel 242A at Dulac are 29-21-09 North Latitude and 90-45-36 West Longitude.

The Audio Division requests comments on a petition filed by Charles Crawford proposing the allotment of Channel 264A at Palacios, Texas, as the community's second local aural transmission service. Channel 264A can be allotted to Palacios in compliance with the Commission's minimum distance separation requirements with a site restriction of 12.2 kilometers (7.6 miles) southeast of Palacios. Since Palacios is located within 320 kilometers (199 miles) of the U.S.-Mexican border, concurrence from the Mexican government has been requested. The reference coordinates for Channel 264A at Palacios are 28-36-26 North Latitude and 96-10-00 West Longitude.

The Audio Division requests comment on a petition filed by Andrew Shafer proposing the allotment of Channel 271A at Washington, Kansas, as the community's first local aural transmission service. Channel 271A can be allotted to Washington in compliance with the Commission's minimum distance separation requirements at the city's reference coordinates. The reference coordinates for Channel 271A at Washington are 39-40-05 North Latitude and 97-03-02 West Longitude.

The Audio Division requests comment on a petition filed by Daniel R. Feely proposing the allotment of Channel 275A at King City, California, as the community's fourth local aural transmission service. Channel 275A can be allotted to King City in compliance with the Commission's minimum distance separation requirements with a site restriction of 0.3 kilometers (0.2 miles) southwest of King City. The reference coordinates for Channel 275A at King City are 36-12-40 North Latitude and 121-07-40 West Longitude.

The Audio Division requests comment on a petition filed by Linda A. Davidson proposing the allotment of Channel 287C at Fallon Station, Nevada, as the community's first local aural transmission service. Channel 287C can be allotted to Fallon Station in compliance with the Commission's minimum distance separation requirements with a site restriction of 20.1 kilometers (12.5 miles) north of Fallon Station. The reference coordinates for Channel 287C at Fallon Station are 39-36-00 North Latitude and 118-43-12 West Longitude.

The Audio Division requests comment on a petition filed by Dana J. Puopolo proposing the allotment of Channel 278A at Coachella, California, as the community's third local aural transmission service. Channel 278A can be allotted to Coachella in compliance with the Commission's minimum distance separation requirements at the city's reference coordinates. Since Coachella is located within 320 kilometers (199 miles) of the U.S.-Mexican border, concurrence of the Mexican government has been requested. The reference coordinates for Channel 278A at Coachella are 33-40-49 North Latitude and 116-10-23 West Longitude.

The Audio Division requests comment on a petition filed by Linda A. Davidson, proposing the allotment of Channel 293A at Cambria, California, as the community's third local aural transmission service. Channel 293A can be allotted to Cambria in compliance with the Commission's minimum distance separation requirements with a site restriction of 5.4 kilometers (3.4 miles) north of Cambria. The reference coordinates for Channel 293A at Cambria are 35-36-36 North Latitude and 121-06-00 West Longitude.

The Audio Division requests comment on a petition filed by Charles Crawford proposing the allotment of Channel 238A at Carbon, Texas, as the community's first local aural transmission service. Channel 238A can be allotted to Carbon in compliance with the Commission's minimum distance separation requirements at the city's reference coordinates. The reference coordinates for Channel 238A at Carbon are 32-16-14 North Latitude and 98-49-42 West Longitude.

The Audio Division requests comment on a petition filed by TTI, Inc. proposing the allotment of Channel 286A at Northport, Alabama, as the community's second local aural transmission service. Channel 286A can be allotted to Northport in compliance with the Commission's minimum distance separation requirements with a site restriction of 8.6 kilometers (5.4 miles) southwest of Northport. The reference coordinates for Channel 286A at Northport are 33-11-02 North Latitude and 87-39-10 West Longitude.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

1. Section 73.202(b), the Table of FM Allotments under Alabama, is amended by adding Channel 286A at Northport.

2. Section 73.202(b), the Table of FM Allotments under California, is amended by adding Channel 293A at Cambria; Channel 278A at Coachella; and Channel 275A at King City.

3. Section 73.202(b), the Table of FM Allotments under Georgia, is amended by adding Channel 295A at Americus.

4. Section 73.202(b), the Table of FM Allotments under Kansas, is amended by adding Washington, Channel 271A.

5. Section 73.202(b), the Table of FM allotments under Louisiana, is amended by adding Dulac, Channel 242A.

6. Section 73.202(b), the Table of FM Allotments under Nevada, is amended by adding Fallon Station, Channel 287C.

7. Section 73.202(b), the Table of FM Allotments under Texas, is amended by adding Carbon, Channel 238A, and Channel 264A at Palacios.

Federal Communications Commission.
John A. Karousos,
Assistant Chief, Audio Division, Media Bureau.

[FR Doc. 04-20357 Filed 9-8-04; 8:45 am]

BILLING CODE 6712-01-P